DEPARTMENT OF TRANSPORTATION

Federal Aviation Administration

14 CFR Part 39

[Docket No. FAA-2021-0682; Project Identifier MCAI-2021-00474-T; Amendment 39-21944; AD 2022-04-03]

RIN 2120-AA64

Airworthiness Directives; Airbus SAS Airplanes

AGENCY: Federal Aviation Administration (FAA), DOT.

ACTION: Final rule.

SUMMARY: The FAA is adopting a new airworthiness directive (AD) for certain Airbus SAS Model A318 series airplanes; Model A319-111, -112, -113, -114, -115, -131, -132, -133, -151N, and -153N airplanes; and Model A320 and A321 series airplanes. This AD was prompted by a determination that new or more restrictive airworthiness limitations are necessary. This AD requires revising the existing maintenance or inspection program, as applicable, to incorporate new or more restrictive airworthiness limitations, as specified in a European Union Aviation Safety Agency (EASA) AD, which is incorporated by reference. The FAA is issuing this AD to address the unsafe condition on these products.

DATES: This AD is effective March 30, 2022.

The Director of the Federal Register approved the incorporation by reference of a certain publication listed in this AD as of March 30, 2022.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this material at the FAA, Airworthiness Products Section, Operational Safety Branch, 2200 South 216th St., Des Moines, WA. For information on the availability of this material at the FAA, call 206-231-3195. It is also available in the AD docket at https://www.regulations.gov by searching for and locating Docket No. FAA-2021-0682.

Examining the AD Docket

You may examine the AD docket at https://www.regulations.gov by searching for and locating Docket No. FAA-2021-0682; or in person at Docket Operations between 9 a.m. and 5 p.m., Monday through Friday, except Federal holidays. The AD docket contains this final rule, the mandatory continuing airworthiness information (MCAI), any comments received, and other information. The address for Docket Operations is U.S. Department of Transportation, Docket Operations, ;M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email sanjay.ralhan@faa.gov.

SUPPLEMENTARY INFORMATION:

Background

EASA, which is the Technical Agent for the Member States of the European Union, has issued EASA AD 2021-0108, dated April 20, 2021 (EASA AD 2021-0108) (also referred to as the MCAI), to correct an unsafe condition for all Airbus SAS Model A318-111, -112, -121, and -122 airplanes; Model A319-111, -112, -113, -114, -115, -131, -132, -133, -151N, and -153N airplanes; Model A320-211, -212, -214, -215, -216, -231, -232, -233, -251N, -252N, -253N, -271N, -272N, and -273N airplanes; and Model A321-111, -112, -131, -211, -212, -213, -231, -232, -251N, -252N, -253N, -271N, -272N, -251NX, -252NX, -253NX, -271NX, and -272NX airplanes. Model A320-215 airplanes are not certificated by the FAA and are not included on the U.S. type certificate data sheet; this AD therefore does not include those airplanes in the applicability. Airplanes with an original airworthiness certificate or original export certificate of airworthiness issued after December 9, 2020 must comply with the airworthiness limitations specified as part of the approved type design and referenced on the type certificate data sheet; this AD therefore does not include those airplanes in the applicability.

EASA AD 2021-0108 specifies that it requires a task (limitation) already required by EASA AD 2020-0067 (which corresponds to FAA AD 2020-22-16, Amendment 39-21312 (85 FR 70439, November 5, 2020) (AD 2020-22-16)) and invalidates (terminates) prior instructions for that task. This AD terminates the limitations of Task 262300-00001-1-C, as required by paragraph (i) of AD 2020-22-16, for airplanes with an original airworthiness certificate or original export certificate of airworthiness issued on or before January 17, 2020 only.

The FAA issued a notice of proposed rulemaking (NPRM) to amend 14 CFR part 39 by adding an AD that would apply to certain Airbus SAS Model A318 series airplanes; Model A319-111, -112, -113, -114, -115, -131, -132, -133, -151N, and -153N airplanes; and Model A320 and A321 series airplanes. The NPRM published in the Federal Register on August 19, 2021 (86 FR 46626). The NPRM was prompted by a determination that new or more restrictive airworthiness limitations are necessary. The NPRM proposed to require revising the existing maintenance or inspection program, as applicable, to incorporate new or more restrictive airworthiness limitations, as specified in EASA AD 2021-0108.

The FAA is issuing this AD to address a safety-significant latent failure (that is not annunciated), which, in combination with one or more other specific failures or events, could result in a hazardous or catastrophic failure condition. See the MCAI for additional background information.

Discussion of Final Airworthiness Directive

Comments

The FAA received comments from Delta Airlines (DAL). The following presents the comments received on the NPRM and the FAA's response to each comment.

Request To Review the Code of Federal Regulations (CFRs)

DAL requested that the FAA review the CFRs to possibly revise it in order to make the airworthiness limitations section (ALS) and airworthiness limitations (AWL) incorporations simpler (no ADs) for commercial airplanes. DAL commented that the FAA and operators would not have to produce as much paperwork for ADs and alternative methods of compliance (AMOCs). DAL also commented that revising the CFR that would mandate operators to incorporate the latest approved revision or variation in a certain number of months after the revision or variation is published regardless of taking on new airplanes.

DAL stated that the initial compliance time for doing the tasks specified in the ALS or AWL is at the applicable “thresholds” of the ALS, or within a certain number of months after the revision or variation is published, whichever occurs later (similar to the typical language used in ALS ADs and paragraph (h)(4) of this proposed AD). DAL also stated that this would reduce the amount of confusion for operators to determine if an AMOC is needed, simplify and standardize the incorporation of AWLs, and allow operators to address these safety concerns faster (this ALS variation was published more than nine months ago). DAL commented that AD 2021-16-01 was published one week after this proposed AD and most operators would have preferred to see these ADs combined into one in order to reduce the number of ALS ADs.

While the FAA understands the commenter's concern, the current CFR requires incorporating the latest ALS included in the type design of the airplane, such as 14 CFR 91.403(c) and 91.409(e). ADs are the only viable method to mitigate risk identified in a product when its type design did not require incorporation of the latest ALS document, as applicable, by mandating subsequent ALS revisions or variations at the applicable thresholds. The FAA's regulatory requirements are promulgated via notice-and-comment rulemaking as required by the Administrative Procedure Act (APA), and the public can petition for rulemaking pursuant to 14 CFR part 11.

Also, the FAA determined that combining the requirements of AD 2021-16-01 with the requirements in this AD would have resulted in the FAA issuing a supplemental NPRM in order to give notice and allow for public comment on the additional requirements. In the interest of safety to address the unsafe condition specified in AD 2021-16-01, the FAA determined AD 2021-16-01 should not be delayed. The FAA has not changed this AD in this regard.

Request for Clarification of Later Approved Revisions

DAL requested clarification of paragraph (i) of the proposed AD, which allows alternative actions and intervals if they are approved in the “Ref. Publications” paragraph of EASA AD 2021-0108. DAL asked the following questions.

• Are later approved revisions of Airbus A318/A319/A320/A321 Airworthiness Limitations Section (ALS) Part 3, Certification Maintenance Requirement (CMR), Variation 7.3, dated December 9, 2020, referring to Variation 7.4 or Variation 7.5 (or Variation 7.3 Revision 02)?

• If the technical content of the tasks is modified at a later approved variation or revision, does paragraph (i) of the proposed AD give operators approval to incorporate these later approved variations or revisions? Or is the statement regarding “technical content” only, giving approval to incorporate a later approved variation or revision if the technical content has not changed?

The FAA agrees to clarify. Operators may not revise their existing maintenance or inspection programs after incorporating Airbus A318/A319/A320/A321 Airworthiness Limitations Section (ALS) Part 3, Certification Maintenance Requirement (CMR), Variation 7.3, dated December 9, 2020, unless they are incorporating a future variation or revision of the ALS document that includes the tasks identified in the variation specified in EASA AD 2021-0108. The future variation or revision of the variation should incorporate the same technical content as specified in EASA AD 2021-0108. The FAA has not changed this AD in this regard.

Request To Delete the Terminating Action for Certain Requirements

DAL requested that the FAA remove AD 2020-22-16 as an affected AD in paragraph (b) of the proposed AD and as a terminating action in paragraph (j) of the proposed AD. DAL stated that, technically, those paragraphs are not needed because paragraph (k) of AD 2020-22-16 allows alternative actions and intervals if they are approved in the “Ref. Publications” paragraph of EASA AD 2020-0067. DAL commented that the “Ref. Publications” paragraph of EASA AD 2020-0067 specifies the use of later approved variations or revisions of Airbus A318/A319/A320/A321 Airworthiness Limitations Section (ALS) Part 3, Certification Maintenance Requirement (CMR), Revision 07, dated October 11, 2019; and Airbus A318/A319/A320/A321 Airworthiness Limitations Section (ALS) Part 3, Certification Maintenance Requirement (CMR), Revision 07, Issue 2, dated January 17, 2020; as acceptable for compliance with the requirements of EASA AD 2020-0067. DAL commented that Airbus A318/A319/A320/A321 Airworthiness Limitations Section (ALS) Part 3, Certification Maintenance Requirement (CMR), Variation 7.3, dated December 9, 2020, is a later approved variation.

The FAA disagrees with removing AD 2020-22-16 as an affected AD and as a terminating action to this AD. Paragraph (j) of this AD is necessary because it allows operators to not have conflicting requirements for Task 262300-00001-1-C from previous versions or revisions of A318/A319/A320/A321 Airworthiness Limitations Section (ALS) Part 3, Certification Maintenance Requirement (CMR) and its corresponding replacement task in A318/A319/A320/A321 Airworthiness Limitations Section (ALS) Part 3, Certification Maintenance Requirement (CMR), Variation 7.3, dated December 9, 2020. Allowance for incorporation of future revisions of an ALS document is not mandatory, but an optional requirement under applicable conditions. The FAA has not changed this AD in this regard.

Conclusion

The FAA reviewed the relevant data, considered the comments received, and determined that air safety requires adopting this AD as proposed. Except for minor editorial changes, this AD is adopted as proposed in the NPRM. None of the changes will increase the economic burden on any operator. Accordingly, the FAA is issuing this AD to address the unsafe condition on these products.

Related Service Information Under 1 CFR Part 51

EASA AD 2021-0108 describes new or more restrictive airworthiness limitations for certification maintenance requirements. This material is reasonably available because the interested parties have access to it through their normal course of business or by the means identified in the ADDRESSES section.

Costs of Compliance

The FAA estimates that this AD affects 1,728 airplanes of U.S. registry. The FAA estimates the following costs to comply with this AD:

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate. Therefore, the agency estimates the average total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-04-03 Airbus SAS: Amendment 39-21944; Docket No. FAA-2021-0682; Project Identifier MCAI-2021-00474-T.

(a) Effective Date

This airworthiness directive (AD) is effective March 30, 2022.

(b) Affected ADs

This AD affects AD 2020-22-16, Amendment 39-21312 (85 FR 70439, November 5, 2020) (AD 2020-22-16).

(c) Applicability

This AD applies to the Airbus SAS airplanes specified in paragraphs (c)(1) through (4) of this AD, certificated in any category, with an original airworthiness certificate or original export certificate of airworthiness issued on or before December 9, 2020.

(1) Model A318-111, -112, -121, and -122 airplanes.

(2) Model A319-111, -112, -113, -114, -115, -131, -132, -133, -151N, and -153N airplanes.

(3) Model A320-211, -212, -214, -216, -231, -232, -233, -251N, -252N, -253N, -271N, -272N, and -273N airplanes.

(4) Model A321-111, -112, -131, -211, -212, -213, -231, -232, -251N, -252N, -253N, -271N, -272N, -251NX, -252NX, -253NX, -271NX, and -272NX airplanes.

(d) Subject

Air Transport Association (ATA) of America Code 05, Time Limits/Maintenance Checks.

(e) Reason

This AD was prompted by a determination that new or more restrictive airworthiness limitations are necessary. The FAA is issuing this AD to address a safety-significant latent failure (that is not annunciated), which, in combination with one or more other specific failures or events, could result in a hazardous or catastrophic failure condition.

(f) Compliance

Comply with this AD within the compliance times specified, unless already done.

(g) Requirements

Except as specified in paragraph (h) of this AD: Comply with all required actions and compliance times specified in, and in accordance with, European Union Aviation Safety Agency (EASA) AD 2021-0108, dated April 20, 2021 (EASA AD 2021-0108).

(h) Exceptions to EASA AD 2021-0108

(1) Where EASA AD 2021-0108 refers to its effective date, this AD requires using the effective date of this AD.

(2) The requirements specified in paragraphs (1) and (2) of EASA AD 2021-0108 do not apply to this AD.

(3) Paragraph (3) of EASA AD 2021-0108 specifies revising “the approved AMP” within 12 months after its effective date, but this AD requires revising the existing maintenance or inspection program, as applicable, within 90 days after the effective date of this AD.

(4) The initial compliance time for doing the tasks specified in paragraph (3) of EASA 2021-0108 is at the applicable “thresholds” as incorporated by the requirements of paragraph (3) of EASA AD 2021-0108, or within 90 days after the effective date of this AD, whichever occurs later.

(5) The provisions specified in paragraphs (4) of EASA AD 2021-0108 do not apply to this AD.

(6) The “Remarks” section of EASA AD 2021-0108 does not apply to this AD.

(i) Provisions for Alternative Actions and Intervals

After the existing maintenance or inspection program has been revised as required by paragraph (g) of this AD, no alternative actions (e.g., inspections) and intervals are allowed unless they are approved as specified in the provisions of the “Ref. Publications” section of EASA AD 2021-0108.

(j) Terminating Action for Certain Requirements in AD 2020-22-16

Accomplishing the actions required by this AD terminates the limitations of Task 262300-00001-1-C, as required by paragraph (i) of AD 2020-22-16, for airplanes with an original airworthiness certificate or original export certificate of airworthiness issued on or before January 17, 2020 only.

(k) Additional AD Provisions

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (l) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (k)(2) of this AD, if any service information contains procedures or tests that are identified as RC, those procedures and tests must be done to comply with this AD; any procedures or tests that are not identified as RC are recommended. Those procedures and tests that are not identified as RC may be deviated from using accepted methods in accordance with the operator's existing maintenance or inspection program without obtaining approval of an AMOC, provided the procedures and tests identified as RC can be done and the airplane can be put back in an airworthy condition. Any substitutions or changes to procedures or tests identified as RC require approval of an AMOC.

(l) Related Information

For more information about this AD, contact Sanjay Ralhan, Aerospace Engineer, Large Aircraft Section, International Validation Branch, FAA, 2200 South 216th St., Des Moines, WA 98198; telephone and fax 206-231-3223; email sanjay.ralhan@faa.gov.

(m) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2021-0108, dated April 20, 2021.

(ii) [Reserved]

(3) For EASA AD 2021-0108, contact EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: https://www.archives.gov/federal-register/cfr/ibr-locations.html.

Issued on February 4, 2022.
Lance T. Gant,
Director, Compliance & Airworthiness Division, Aircraft Certification Service.

[FR Doc. 2022-03730 Filed 2-22-22; 8:45 am]

BILLING CODE 4910-13-P